DEPARTMENT OF COMMERCE

National Oceanic and Atmospheric Administration

[I.D. 112706D]

Endangered and Threatened Species; Take of Anadromous Fish

AGENCY: National Marine Fisheries Service (NMFS), National Oceanic and Atmospheric Administration (NOAA), Commerce.

ACTION: Notice of availability and request for comment.

SUMMARY: Notice is hereby given that NMFS has received an application from the Public Utility District No. 2 of Grant County (Grant PUD), the Washington Department of Fish and Wildlife (WDFW), and the Confederated Tribes and Bands of the Yakama Nation (YN) for a direct take permit pursuant to the Endangered Species Act of 1973, as amended (ESA). The duration of the proposed Permit is three years. This document serves to notify the public that the permit applications and the associated draft environmental assessment (EA) are available for comment before a final decision on whether to issue a Finding of No Significant Impact is made by NMFS for take of upper Columbia River spring-run chinook salmon and steelhead. All comments received will become part of the public record and will be available for review pursuant to the ESA.

DATES: Written comments on the application and draft EA must be received at the appropriate address or fax number (see ADDRESSES) no later than 5 p.m. Pacific standard time January 2, 2007.

ADDRESSES: Written comments on the application should be sent to Kristine Petersen, National Marine Fisheries Services, Salmon Recovery Division, 1201 N.E. Lloyd Boulevard, Suite 1100, Portland, OR 97232. Comments may also be submitted by e-mail to: whiteriver.nwr@noaa.gov. Include in the subject line of the e-mail comment the following identifier: “Comments on White River program”. Comments may also be sent via facsimile (fax) to (503) 872-2737.

Requests for copies of the permit application should be directed to the National Marine Fisheries Services, Salmon Recovery Division, 1201 NE Lloyd Boulevard, Suite 1100, Portland, OR 97232. The documents are also available on the Internet at www.nwr.noaa.gov. Comments received will be available for public inspection by appointment during normal business hours by calling (503) 230-5409.

FOR FURTHER INFORMATION CONTACT: Kristine Petersen at (503) 230-5409 or e-mail: kristine.petersen@noaa.gov.

SUPPLEMENTARY INFORMATION: This notice is relevant to the following species and evolutionarily significant units (ESUs) or distinct population segments (DPSs):

1. Chinook salmon (O. tshawytscha): endangered, upper Columbia River spring-run.

2. Steelhead (Oncorhynchus mykiss): threatened, naturally produced and artificially propagated Upper Columbia River.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

NEPA requires Federal agencies to conduct an environmental analysis of their proposed actions to determine if the actions may affect the human environment. NMFS expects to take action on two ESA section 10(a)(1)(A) submittals received from the applicants. Therefore NMFS is seeking public input on the scope of the required NEPA analysis, including the range of reasonable alternatives and associated impacts of any alternatives.

In an application received on August 27, 2006, the Grant PUD submitted an application to NMFS for an ESA section 10(a)(1)(A) permit for the direct take of ESA-listed upper Columbia River spring Chinook salmon from the White River in Chelan County, in order to carry out an artificial propagation (hatchery) program to enhance the species. The purpose of this program is to prevent the extinction of, conserve, and ultimately restore the naturally spawning White River spring Chinook salmon spawning aggregate, which is part of the Wenatchee population within the upper Columbia River basin.

This notice is provided pursuant to section 10(c) of the ESA. NMFS will evaluate the application, associated documents, and comments submitted thereon to determine whether the application meets the requirements of section 10(a)(1)(A) of the ESA. If it is determined that the requirements are met, a permit will be issued jointly to the Grant PUD, the WDFW, and the YN for the purpose of carrying out the enhancement program. NMFS will publish a record of its final action in the Federal Register.

The general effects on the environment considered include the impacts on the physical, biological, and socioeconomic environments of the upper Columbia River Basin, particularly in the Wenatchee River Subbasin in which the program is located.

Dated: November 28, 2006.
Angela Somma,
Chief, Endangered Species Division, Office of Protected Resources, National Marine Fisheries Service.

[FR Doc. E6-20377 Filed 11-30-06; 8:45 am]

BILLING CODE 3510-22-S